DEPARTMENT OF THE TREASURY

Office of the Comptroller of the Currency

12 CFR Part 40

[Docket ID OCC-2007-0003]

RIN 1557-AC80

FEDERAL RESERVE SYSTEM

12 CFR Part 216

[Docket No. R-1280]

FEDERAL DEPOSIT INSURANCE CORPORATION

12 CFR Part 332

RIN 3064-AD16

DEPARTMENT OF THE TREASURY

Office of Thrift Supervision

12 CFR Part 573

[Docket ID OTS-2007-0005]

RIN 1550-AC12

NATIONAL CREDIT UNION ADMINISTRATION

12 CFR Part 716

RIN 3133-AC84

FEDERAL TRADE COMMISSION

16 CFR Part 313

[Project No. 034815]

RIN 3084-AA94

COMMODITY FUTURES TRADING COMMISSION

17 CFR Part 160

RIN 3038-AC04

SECURITIES AND EXCHANGE COMMISSION

17 CFR Part 248

[Release Nos. 34-55497, IA-2598, IC-27755; File No. S7-09-07]

RIN 3235-AJ06

Interagency Proposal for Model Privacy Form Under the Gramm-Leach-Bliley Act

Correction

In proposed rule document 07-1476 beginning on page 14939 in the issue of Thursday, March 29, 2007, make the following corrections:

On pages 14948, 14963, 14968, 14973, 14978, 14983, 14988, 14993 and 14998, the corrected “Model Privacy Form, p. 3 of 3” appears as follows:

[FR Doc. C7-1476 Filed 4-5-07; 8:45 am]

BILLING CODE 1505-01-D